DEPARTMENT OF HEALTH AND HUMAN SERVICES

Food and Drug Administration

Food and Drug Administration/Industry Exchange Workshops on Food Security and Recalls; Public Workshops

AGENCY: Food and Drug Administration, HHS.

ACTION: Notice of public workshops.

SUMMARY: The Food and Drug Administration (FDA) and the Pacific Region Small Business Office, in cooperation with the Western Association of Food and Drug Officials (WAFDO), is announcing a series of workshops on food security and recalls. Topics for discussion include: Food safety and security guidance and procedures, preparing for and conducting a food recall, the use of tamper-evident packaging to avoid product counterfeiting, and the introduction of adulterants. These 1-day workshops for the food industry target food manufacturers, repackers, growers, and transporters. The workshops will include both industry and FDA perspectives.

Date and Time: The public workshops are scheduled as follows:

1. Thursday, July 25, 2002, 8:30 a.m. to 4:30 p.m., Oakland, CA.

2. Wednesday, August 28, 2002, 8:30 a.m. to 4:30 p.m., Los Angeles, CA.

3. Tuesday, September 24, 2002, 8:30 a.m. to 4:30 p.m., Seattle, WA.

Location: The public workshops will be held at the following locations:

1. Oakland—Ronald V. Dellums Federal Building Auditorium and Conference Center, 1301 Clay St., Oakland, CA.

2. Los Angeles—Ronald Reagan State Building Auditorium, 300 South Spring St., Los Angeles, CA.

3. Seattle, WA—Seattle Center, Lopez Room, 300 First Ave. North, corner of Republican Street, Seattle, WA.

Contact: Marcia Madrigal, Industry and Small Business Representative, Food and Drug Administration, Oakland Federal Building, 1301 Clay St., suite 1180N, Oakland, CA 94612, 510-637-3980, FAX 510-637-3977, or e-mail: mmadriga@ora.fda.gov.

Registration: Send registration information (including name, title, firm name, address, telephone, and fax number) and registration fee to Chuck Henry at WAFDO, 14344 East Caley Ave., Aurora, CO 80016, FAX 303-753-6809, or e-mail: chuck.henry@state.co.us.

The registration fee will be used to offset the expenses of hosting the conferences, including meals, refreshments, meeting rooms, and materials. Space is limited, therefore interested parties are encouraged to register early. Limited onsite registration may be available. Please arrive early to ensure prompt registration.

If you need special accommodations due to a disability, please contact Marcia Madrigal at least 7 days in advance of the workshop.

SUPPLEMENTARY INFORMATION: The “Food Security and Recalls” workshops help fulfill the Department of Health and Human Services’ and FDA’s important mission to protect the public health by preventing and countering terrorism related to the nation's food supply. FDA has made providing security guidance and information to the food industry a high priority.

The workshop helps to implement the objectives of section 406 of the FDA Modernization Act (21 U.S.C. 393) and the FDA Plan for Statutory Compliance, which includes working more closely with stakeholders and ensuring access to needed scientific and technical expertise. The workshop also furthers the goals of the Small Business Regulatory Enforcement Fairness Act (Public Law 104-121) by providing outreach activities by Government agencies directed to small businesses.

Dated: June 26, 2002.
Margaret M. Dotzel,
Associate Commissioner for Policy.

[FR Doc. 02-16667 Filed 7-2-02; 8:45 am]

BILLING CODE 4160-01-S